DEPARTMENT OF COMMERCE

International Trade Administration

[A-570-890]

Wooden Bedroom Furniture From the People's Republic of China; Initiation of New Shipper Reviews

AGENCY: Import Administration, International Trade Administration, Department of Commerce.

EFFECTIVE DATE: March 7, 2007.

SUMMARY: The Department of Commerce (the “Department”) received timely requests to conduct new shipper reviews of the antidumping duty order on wooden bedroom furniture from the People's Republic of China (“PRC”). In accordance with 19 CFR 351.214(d)(1), we are initiating new shipper reviews for Golden Well International (HK), Ltd. (“Golden Well”) and its supplier Zhangzhou XYM Furniture Product Co., Ltd. (Zhangzhou XYM), and for Mei Jia Ju Furniture Industrial (Shenzhen) Co., Ltd. (“Mei Jia”).

FOR FURTHER INFORMATION CONTACT: Paul Stolz or Eugene Degnan, AD/CVD Operations, Office 8, Import Administration, International Trade Administration, U.S. Department of Commerce, 14th Street and Constitution Avenue, NW, Washington, DC 20230; telephone: (202) 482-4474 or (202) 482-0414, respectively.

SUPPLEMENTARY INFORMATION: The Department received timely requests from Golden Well and Mei Jia on January 24 and 22, 2007 respectively, pursuant to section 751(a)(2)(B) of the Tariff Act of 1930, as amended (“the Act”), and in accordance with 19 CFR 351.214(c), for new shipper reviews of the antidumping duty order on wooden bedroom furniture from the PRC. See Notice of Amended Final Determination of Sales at Less than Fair Value and Antidumping Duty Order: Wooden Bedroom Furniture from the People's Republic of China, 70 FR 329 (January 4, 2005). Although Mei Jia submitted a timely request, on February 7, 2007, the Department rejected Mei Jia's request due to improper filing. However, because Mei Jia originally filed its request on January 22, 2007, but the request was not rejected by the Department until February 7, 2007, the Department allowed Mei Jia to refile its request by February 21, 2007. See the letter from the Department to Mei Jia dated February 7, 2007. On February 16, 2007, Mei Jia re-submitted its request for a new shipper review.

Pursuant to 19 CFR 351.214(b)(2)(i), 19 CFR 351.214(b)(2)(ii), 19 CFR 351.214(b)(2)(iii)(A), and 19 CFR 351.214(b)(2)(iii)(B), in their requests for new shipper reviews, Golden Well (as an exporter), Zhangzhou XYM, and Mei Jia (as a producing exporter) certified that they did not export wooden bedroom furniture to the United States during the period of investigation (“POI”); that since the initiation of the investigation they have never been affiliated with any company that exported subject merchandise to the United States during the POI; and that their export activities were not controlled by the central government of the PRC.

In accordance with 19 CFR 351.214(b)(2)(iv), Golden Well and Mei Jia submitted documentation establishing the following: (1) The date on which they first shipped wooden bedroom furniture for export to the United States; (2) the volume of their first shipment; and (3) the date of their first sale to an unaffiliated customer in the United States.

Initiation of New Shipper Review

In accordance with section 751(a)(2)(B) of the Act and 19 CFR 351.214(d)(1), and based on information on the record, we find that Golden Well and Mei Jia's requests meet the initiation threshold requirements and we are initiating new shipper reviews for shipments of wooden bedroom furniture exported by Golden Well that were produced by Zhangzhou XYM and shipments of wooden bedroom furniture produced and exported by Mei Jia. See Memorandum to the File through Wendy J. Frankel, Director, New Shipper Initiation Checklist, dated, February 28, 2007. The Department will conduct these new shipper reviews according to the deadlines set forth in section 751(a)(2)(B)(iv) of the Act.

Pursuant to 19 CFR 351.214(g)(1)(i)(A), the period of review (“POR”) for a new shipper review, initiated in the month immediately following the anniversary month, will be the twelve-month period immediately preceding the anniversary month. Therefore, the POR for the new shipper reviews of Golden Well and Mei Jia will be January 1 through December 31, 2006.

It is the Department's usual practice, in cases involving non-market economies, to require that a company seeking to establish eligibility for an antidumping duty rate separate from the country-wide rate provide evidence of de jure and de facto absence of government control over the company's export activities. Accordingly, we will issue questionnaires to Golden Well and Mei Jia, including a separate-rate section. The reviews will proceed if the responses provide sufficient indication that Golden Well and Mei Jia are not subject to either de jure or de facto government control with respect to their exports of wooden bedroom furniture. However, if either Golden Well or Mei Jia does not demonstrate its eligibility for a separate rate, it will be deemed not separate from other companies that exported during the POI, and its new shipper review will be rescinded.

On August 17, 2006, the Pension Protection Act of 2006 (H.R. 4) was signed into law. Section 1632 of H.R. 4 temporarily suspends the authority of the Department to instruct U.S. Customs and Border Protection to collect a bond or other security in lieu of a cash deposit in new shipper reviews. Therefore, the posting of a bond or other security under section 751(a)(2)(B)(iii) of the Act in lieu of a cash deposit is not available in this case. Importers of wooden bedroom furniture 1) produced by Zhangzhou XYM and exported by Golden Well, or 2) produced and exported by Mei Jia must continue to post cash deposits of estimated antidumping duties on each entry of subject merchandise (i.e., wooden bedroom furniture) at the PRC-wide entity rate of 198.08 percent.

Interested parties that need access to proprietary information in this new shipper review should submit applications for disclosure under administrative protective order in accordance with 19 CFR 351.305 and 351.306.

This initiation and notice are issued in accordance with section 751(a)(2)(B) of the Act and 19 CFR 351.214 and 351.221(c)(1)(i).

Dated: February 28, 2007.
Stephen J. Claeys,
Deputy Assistant Secretary for Import Administration.

[FR Doc. E7-4049 Filed 3-6-07; 8:45 am]

BILLING CODE 3510-DS-S